SOCIAL SECURITY ADMINISTRATION

[Docket No. SSA-2007-0006]

Early Identification and Intervention Demonstration Request for Applications; Program: Cooperative Agreements for Early Identification and Intervention Demonstrations (EIID); Program Announcement No. SSA-OPDR-07-01

AGENCY: Social Security Administration.

ACTION: Funding Opportunity; Initial announcement of availability of cooperative agreement funds for FY 2006 and request for applications.

SUMMARY: The Social Security Administration requests applications for cooperative agreement funding to support projects that will design and implement effective, replicable, and sustainable models which will increase the number of children (birth to age 5) who receive developmental screening and improve the early identification of children with developmental delays and/or disabilities.

Authority: Section 1110 of the Social Security Act (the Act) authorizes the cooperative agreement funding described in this announcement.

DATES: The closing date for receipt of cooperative agreement applications under this announcement is March 14, 2007. Section IV of this announcement contains instructions for submitting applications under this announcement.

Prospective applicants are also asked to submit, preferably by February 5, 2007, a fax, post card, letter, or e-mail of intent that includes (1) The program announcement number (SSA-OPDR-07-01) and title (Early Identification and Intervention Demonstrations (EIID)); (2) the name of the agency or organization that is applying; and (3) the name, mailing address, e-mail address, telephone number, and fax number for the organization's contact person.

The notice of intent should be (1) E-mailed to Stephen.Evangelista@ssa.gov using “EIID—Notice of Intent” in the subject line; (2) faxed to (410) 965-9063 to the attention of Stephen Evangelista or (3) mailed to Social Security Administration, Office of Disability and Income Security Programs, 6401 Security Boulevard, Altmeyer 107, Baltimore, MD 21235, Attention: Stephen Evangelista.

The notice of intent is not required, is not binding, and does not enter into the review process of a subsequent application. The purpose of the notice is to allow SSA staff to estimate the number of technical reviewers needed and to avoid potential conflicts of interest in the review.

ADDRESSES: All applications for funding under this announcement must be submitted via http://www.grants.gov.

Application Kit: Part VI of this announcement contains instructions for obtaining an application kit.

FOR FURTHER INFORMATION CONTACT: Stephen Evangelista, Office of Disability and Income Security Programs, 6401 Security Boulevard, Altmeyer 107, Baltimore, MD 21235, Stephen.Evangelista@ssa.gov, phone: 410-965-6522; or Leola Brooks, Office of Program Development and Research, 400 Virginia Avenue, SW., Suite 700, Washington, DC 20024, leola.brooks@ssa.gov, phone: 202-358-6294. When sending a question, use the program announcement number (SSA-OPDR-07-01) and the date of this announcement.

SUPPLEMENTARY INFORMATION: This overview of the Early Identification and Intervention Demonstration project is included to allow potential applicants to quickly learn the contents of this announcement, and to decide whether they are eligible to apply for the funding opportunity described. It follows the outline of the full text of the three sections of the announcement.

Program Description

The Social Security Administration (SSA) is making cooperative agreement funding available to support a project that will design and implement effective, replicable, and sustainable models which will increase the number of children (birth to age 5) who receive developmental screening and improve the early identification of children with developmental delays and/or disabilities.

This cooperative agreement will target children from birth to age 5 from the following populations: minority, unserved, underserved, native populations, homeless, premature infants, parental depression or serious emotional disturbance, foster care, low-income, inner city, rural, children affected by substance abuse or withdrawal symptoms resulting from prenatal drug exposure, and children involved in a substantiated case of child abuse. Applicants should show how they intend to assure that participants from diverse populations are served by the project. Applicants must specify the geographic area to be covered by the project.

Awardees of cooperative agreement funding must design and implement a model system of early identification and intervention which increases developmental screening of children birth to age 5. Awardees must screen children from at least three of the target populations identified. The awardees and SSA will identify an agreed upon minimum set of screening instruments that can be supplemented depending on the needs of each child, which will be utilized in the project. If the screening reveals that a child has a potential disability or developmental delay, awardees will be required to provide appropriate assessment or refer the child for appropriate assessment. If an assessment reveals a disability or developmental delay, the awardees must provide appropriate early intervention services or refer the child for appropriate early intervention services. Awardees will also be required to provide transportation assistance through a case coordinator, have or develop relationships with providers of screening, assessment, and early intervention services and provide information to families regarding ombudsman or consumer advocacy services.

Awardees will be required to submit monthly data on participants enrolled in the project. SSA will monitor the outcomes of the project. SSA is particularly interested in ensuring that everything possible is done to ensure that children with developmental delays, children with disabilities and children at risk are identified as early as possible and receive whatever early intervention services they need to achieve their highest potential.

Award Information

SSA intends to fund two projects for up to 2 years subject to the availability of annual appropriations by Congress. SSA will fund project activities in year one and conduct data reporting activities in year two. SSA will award up to two cooperative agreements at up to $300,000 for the 2-year life of each cooperative agreement funded. These projects are authorized by section 1110 of the Act, and will be funded with cooperative agreements, which anticipate substantial involvement of the government in project design and operation.

Eligibility Information

Public and private organizations, including educational, nonprofit, profit-making, and faith-based organizations, may apply for cooperative agreement funding made available under this announcement. SSA favors applicants that can demonstrate experience with the full range of needs of children and families to facilitate the provision of needed services and supports beyond developmental screening. The Organization that is awarded funding must: have existing expertise in developmental screening and assessment or demonstrate an ability to refer children for screening, full assessment, and early intervention services; and assist participants to follow through with recommended assessments and early intervention services. The Organization that is awarded funding must be able to provide culturally competent services that are fully accessible to the target populations, including individuals who require accommodations.

Cooperative agreements may not be awarded to: any individual; Social Security Administration Field Offices (FO); State DDS offices; or any organization described in section 501(c)(4) of the Internal Revenue Code of 1968 that engages in lobbying (in accordance with section 18 of the Lobbying Disclosure Act of 1995, 2 U.S.C. 1611).

All applications developed jointly by more than one agency or organization must identify only one organization as the lead organization and official applicant. The other participating agencies and organizations can be included as co-applicants, sub-grantees, or subcontractors. All applicants for Federal grants and cooperative agreements are required to provide a Dun and Bradstreet (D&B) Data Universal Number System (DUNS) number. The DUNS number will be required whether an applicant is submitting a paper application or using the government wide electronic portal (www.grants.gov). Organizations should verify that they have a DUNS number or take the steps needed to obtain one as soon as possible. Organizations can receive a DUNS number at no cost by calling the dedicated toll-free DUNS number request line at 1-866-705-5711.

Federal cooperative agreement funds are not to be used to cover costs that are reimbursable under an existing public or private program. Awardees of SSA cooperative agreements are required to contribute a non-Federal match of at least 5 percent toward the cost of each project. The cost of the project is the sum of the Federal share (up to 95 percent) and the non-Federal share (at least 5 percent).

Table of Contents:

Section I. Funding Opportunity Description

A. Introduction

B. Data on Early Intervention

C. Background

D. Project Goals and Objectives

E. Project Features

1. Use of Cooperative Agreement Funds

2. Standard Project Features

F. Monitoring Outcomes

Enrollment Guidelines

G. Data Collection

1. Data Elements

2. Privacy

3. Security Plan

Section II. Award Information

A. Statutory Authority and Catalog of Federal Domestic Assistance Number

B. Type of Award

C. Number, Size and Duration of Projects

Section III. Eligibility Information

A. Eligible Applicants

B. Cost Sharing and Matching

C. Target Populations

Section IV. Application and Submission Information

A. Address to Request Applications

B. Content and Form of Application Submission

1. Application Process

2. Application Requirements

C. Submission Dates and Times

D. Funding Restrictions

E. Other Submission Requirements

Section V. Application Review Information

A. Criteria

1. Capability

2. Project Design

3. Resources and Management

B. Review and Selection Process

C. Anticipated Announcement and Award Date

D. Application Approval

Section VI. Award Administration Information

A. Award Notices

B. Administrative and National Policy Requirements

C. Reporting

D. Monitoring

E. Technical Assistance

Section VII. Agency Contacts

Section VIII. Other Information

Section I. Funding Opportunity Description (CFDA No. 96.007)

A. Introduction

The Federal government has recognized the importance and value of early intervention for children with disabilities. In the Individuals with Disabilities Education Improvement Act of 2004 (IDEA) Congress found, among other things, an urgent and substantial need:

1. To enhance the development of infants and toddlers with disabilities, to minimize their potential for developmental delay, and to recognize the significant brain development that occurs during a child's first 3 years of life;

2. To reduce the educational costs to our society, including our nation's schools, by minimizing the need for special education and related services after infants and toddlers with disabilities reach school age;

3. To maximize the potential for individuals with disabilities to live independently in society; and

4. To enhance the capacity of families to meet the special needs of their infants and toddlers with disabilities.

Part C of IDEA provides financial assistance to States to, among other things, develop and implement statewide, comprehensive, coordinated, multidisciplinary, interagency systems that provide early intervention services for infants and toddlers with disabilities and their families.

IDEA defines an infant or toddler with a disability as an individual under age 3 who needs early intervention services because the individual is experiencing developmental delays, as measured by appropriate diagnostic instruments and procedures in one or more of the areas of cognitive development, physical development, communication development, social or emotional development, and adaptive development; or has a diagnosed physical or mental condition that has a high probability of resulting in developmental delay and may also include, at a State's discretion, at-risk infants and toddlers. The term also includes children with disabilities who are eligible for services under section 619 and who previously received services under this part until such children enter or are eligible under State law to enter, kindergarten or elementary school, as appropriate.

An at-risk infant or toddler is defined as an individual under age 3 who would be at risk of experiencing a substantial developmental delay if early intervention services were not provided.

Early intervention services are defined in Public Law 108-446 as developmental services that are provided under pubic supervision; are provided at no cost except where Federal or State law provides for a system of payments by families, including a schedule of sliding fees; and are designed to meet the developmental needs of an infant or toddler with a disability, in one or more of the following areas: physical development; cognitive development; communication development; social or emotional development; or adaptive development.

Early intervention services include: family training, counseling, and home visits; special instruction; speech-language pathology and audiologist services, sign language and cued language services; occupational therapy; physical therapy; psychological services; coordination services; medical services only for diagnostic or evaluation purposes; early identification, screening, and assessment services; health services necessary to enable the infant or toddler to benefit from the other early intervention services; social work services; vision services; assistive technology devices and assistive technology services; and transportation and related costs that are necessary to enable the child or the child's family to receive another early intervention service. Services are to be provided by qualified personnel and to the maximum extent appropriate provided in natural environments, including the home, and community settings in which children without disabilities participate, and provided according to the individualized family service plan.

Part B of the IDEA also provides grants to assist States in providing special education and related services to children with disabilities age 3 through 5.

Developmental screening is a procedure designed to identify children who should receive more intensive assessment or diagnosis, for potential developmental delays and is critical to increasing the opportunity of more children to benefit from early intervention.

Many children with developmental delays are not being identified early. In the U.S., 17 percent of children have a developmental or behavioral disability such as autism, mental retardation, and attention-deficit/hyperactivity disorder. Moreover, many children have delays in language and other areas of development which impact school readiness. Yet, less than 50 percent of these children are identified as having a problem before starting school, by which time significant delays in development may already have occurred and opportunities for treatment missed.¹

¹ Department of Health and Human Services, Centers for Disease Control, National Center on Birth Defects and Developmental Disabilities, September 20, 2005— http://www.cdc.gov/ncbddd/child/improve.htm.

Many developmental screening tools are available. According to the American Academy of Pediatrics:

There is no universally accepted screening tool appropriate for all populations and all ages. Currently available screening tools vary from broad general developmental screening tools to others that focus on specific areas of development, such as motor or communication skills. Their psychometric properties vary widely in characteristics such as their standardization, the comparison group used for determining sensitivity and specificity, and population risk status.;* * * Screening tests should be both reliable and valid, with good sensitivity and specificity.²

² American Academy of Pediatrics, Council on Children With Disabilities; Section on Developmental Behavioral Pediatrics; Bright Futures Steering Committee; and Medical Home Initiatives for Children With Special Needs Project Advisory Committee. Policy Statement: Identifying Infants and Young Children With Developmental Disorders in the Medical Home: An Algorithm for Developmental Surveillance and Screening, Pediatrics, 2006; 416.

SSA has a strong interest in ensuring that everything possible is done to ensure children with developmental delays, children with disabilities, and children at risk are identified as early as possible and receive whatever early intervention services they need to achieve their highest potential. In October 2006, 1,084,000 children were receiving Supplemental Security Income (SSI) payments due to disability, representing 14.9 percent of the more than 7 million SSI beneficiaries.³ That same month there were 1,635,000 childhood disability beneficiaries who received Social Security Disability Insurance (SSDI) benefits based upon the account of a parent (who receives benefits due to disability or retirement, or who is deceased).⁴ In December 2005, more than 1,036,000 children with disabilities were receiving SSI payments.⁵ Fifteen percent of these children were younger than five years old. The remaining 85 percent were fairly evenly distributed by age.⁶ More than 66 percent had a mental disorder, and the largest proportion of this group (20 percent) had mental retardation.⁷ Many children receiving SSI/SSDI benefits stay on the benefit rolls for life. In December 2005, the SSI rolls also included almost 681,000 adult recipients who first became eligible for SSI payments before age 18, 22 percent of whom first became eligible during the 1974-1980 period, indicating that they have been receiving SSI for much of their lives.⁸ The earlier interventions are provided to address their needs, the more likelihood there is of better outcomes and less dependence on Federal support.

³ U.S. Social Security Administration, Office of Policy, Monthly Statistical Snapshot, October 2006, Table 3.

⁴ U.S. Social Security Administration, Monthly Statistical Snapshot, October 2006, Table 2.

⁵ Social Security Administration, Children Receiving SSI, 2004, SSA Publication No 13-11830, Released July 2005, page 1.

⁶ Ibid.

⁷ Ibid.

⁸ Ibid, page 2.

B. Data on Early Intervention

In 2001, nearly 250,000 children were identified as being at risk or having a developmental delay or disability before 36 months of age and were enrolled in Part C Early Intervention programs nationwide.

The National Early Intervention Longitudinal Study (NEILS) ⁹ is the first study of Part C of the IDEA EI system with a nationally representative sample of infants and toddlers with disabilities. According to NEILS ¹⁰ the variability in children in the EI system is marked by high proportions of children from low-income families, ethnic minorities, those in foster care, and males. Nearly one-third (32 percent) are low birth weight, four times the rate in the general population. Infants and toddlers in EI are eight times more likely to be rated as having fair or poor general health. Children enter at all ages across the first 3 years of life, but those eligible because of developmental delays enter as toddlers, in comparison with those eligible because of diagnosed conditions or subject to biological or environmental risk factors, who tend to enter in the first year of life. The variability of the infants and toddlers in EI indicates that there is no typical child in EI.

⁹ Scarborough, A.A., Spiker, D., Mallik, S., Hebbler, K.M., Bailey, D.B., & Simeonsson, R.J. (2004). A National Look at Children and Families Entering Early Intervention. Exceptional Children, 70, (4), 469-483.

¹⁰ Scarborough, A.A., Spiker, D., Mallik, S., Hebbler, K.M., Bailey, D.B., & Simeonsson, R.J. (2004). A National Look at Children and Families Entering Early Intervention. Exceptional Children, 70, (4), 469-483.

The research and data to date show that the reasons for a child's eligibility for services and the child's age at entry are significantly related. In general, infants and toddlers with diagnosed medical conditions, and those subject to environmental and biomedical factors, are at risk for developmental delays. In most cases, eligibility related to developmental delay requires that a child be old enough to show a notable discrepancy between development and age-expected skill mastery.

C. Background

SSA administers two programs that provide cash benefits for individuals with disabilities: SSDI and SSI.

SSDI Benefits. SSDI benefits are based on worker contributions to the Disability Insurance Trust Fund. There are two types of SSDI benefits: disability and dependents of those with disabilities. Individuals may be eligible for benefits based on their own contributions to the DI Trust Fund, or based on contributions of a family member. The amount of the benefit is based on the amount of the insured worker's contributions.

Individuals who receive SSDI benefits are eligible for Medicare after a 24-month entitlement period. Coverage under Medicare Part A (Hospital Insurance) is automatic. Beneficiaries must pay a premium to be covered by Part B, which pays for outpatient services, as well as certain medical supplies. Some beneficiaries may qualify for the State Medicaid program to pay their Medicare Part B premium.

SSI. The SSI program is financed from general federal revenue and provides monthly benefit payments to the elderly, blind, and individuals with disabilities who have limited resources and income. The maximum Federal benefit rate (FBR) is adjusted annually. Effective January 1, 2006, the Federal benefit rate is $603 for an individual and $904 for a couple. In addition, many States supplement the FBR. The supplementary benefit amounts and the categories of individuals eligible for these benefits vary from State to State. In most States, SSI beneficiaries are eligible for Medicaid; however, in a few States, individuals must file a separate application for Medicaid.

An individual or couple may have earned or unearned income and still may be eligible for the SSI program. Under numerous provisions, a certain amount of income is excluded in determining eligibility and computing the SSI benefit amount. People who live in a State that supplements the Federal payment may have higher amounts of income and still may qualify for some benefits.

Concurrent Eligibility. Some individuals may be eligible for benefits under both SSDI and the SSI program. Many individuals who receive SSDI benefits, who also have low incomes and limited assets, may qualify for Medicaid, or may qualify for their State Medicaid program to pay their Medicare premiums.

Disability Benefits. In December 2005, about 7.5 million people received Social Security disability benefits as disabled workers, disabled widow(er)s, or disabled adult children. As of December 2005, the number of SSI recipients was 7.1 million. Of this total, 4.1 million were between the ages of 18 and 64, 2 million were aged 65 and older, and 1 million were under age 18.

The Act establishes a stringent eligibility standard for benefits that applies to both SSDI/SSI claims. For individuals aged 18 or older, disability is defined as an inability to “engage in substantial gainful activity (SGA) by reason of any medically determinable physical or mental impairment(s) which can be expected to result in death, or which has lasted or can be expected to last for a continuous period of not less than 12 months.” SGA refers to earnings from work. The amount of earnings that constitutes SGA is increased annually. In 2006, the SGA amount was $860 per month for individuals with a disability. The SGA amount for statutorily blind individuals for 2006 was $1,450 per month.

Individuals under age 18 may qualify for SSI benefits based on disability. To be eligible, a child must have a medically determinable physical or mental impairment or combination of impairments that causes marked and severe functional limitations. The impairment(s) must last or be expected to last 12 months or more, or to result in death. A child may not be considered eligible if he or she has earnings considered to be SGA.

SSA works cooperatively with the States, who are responsible for making eligibility determinations through their Disability Determination Services (DDS) offices. SSA takes a detailed medical history from the claimant during the initial interview and sends that information to the DDS. The DDS then secures medical records and, if needed, schedules additional examinations, called consultative examinations (CE). Based upon this evidence and in combination with other evidence, such as vocational factors (age, education, and work history) a disability or blindness determination is made.

D. Project Goals and Objectives

The goal of this cooperative agreement will be to design and implement effective, replicable, and sustainable models which will increase the number of children with disabilities who receive developmental screening; improve the early identification of children with developmental delays and/or disabilities; and increase the self sufficiency of these children. This cooperative agreement will target children from birth to age 5.

The core objective of the project is to screen children (from birth to age 5), in the following general categories: Minority; unserved, underserved, native populations, homeless, premature infants, parental depression or serious emotional disturbance, foster care, low-income, inner city, rural, children affected by substance abuse or withdrawal symptoms resulting from prenatal drug exposure; and children involved in substantiated cases of child abuse. In collecting data on race and ethnicity, the study will follow the Provisional Guidance on the Implementation of the 1997 Standards for the Collection of Federal Data on Race and Ethnicity.

SSA is interested in learning the degree to which increased provision of screening, early identification, and early intervention services to children improves developmental outcomes including: Quality of life (full integration and inclusion in the community), educational outcomes, independence, employment, and overall self sufficiency. Improved developmental outcomes can be evaluated by tracking services received, educational placement, and special education services after initial screening and services.

E. Project Features

The Early Identification and Intervention Demonstration project will help SSA demonstrate the feasibility of special approaches to increasing the screening, early identification, and early intervention services and supports to children and determine how these services improve developmental outcomes. While SSA expects the grantee to make referrals and assist the screened children and their families in obtaining appropriate early intervention services, the focus of the cooperative agreement project is to increase the number of children (birth to age 5) who are screened for developmental delays and/or disabilities from the target populations identified.

1. Use of Cooperative Agreement Funds

The awardees must use cooperative agreement funds to address the goals and objectives described in Section I. D. To that end, SSA is interested in applications from public and private organizations, including educational, nonprofit, profit-making, and faith-based organizations.

SSA favors applicants that can demonstrate experience with the full range of needs of children and families to facilitate the provision of needed services and supports beyond developmental screening. SSA will allow latitude in developing and implementing effective models of early identification and intervention; however, there are standard features that SSA would like to test. Applicants may choose to add other features to make the demonstrations more effective and several examples are given in this regard.

2. Standard Project Features

The awardees who receive funds under this announcement must design and implement models of early identification and intervention. Specifically, the awardee must:

Screening

• Design a model system which increases the developmental screening of children birth to age 5, and uses quality screening tools as agreed upon with SSA.

• Screen for cognitive development, physical development, communication development, social or emotional development, and adaptive development and be culturally sensitive and linguistically appropriate. Screening must be done by a qualified professional who has been trained in the specific screening instruments that are being used and is credentialed in their State to do such a screening.

• Screen each child participating. If a child is screened and no potential disability is identified, the child shall have follow-up screening as necessary, but at least annually, through the duration of the project. After the final screening, a copy of the child's screening record shall be given to his/her family with any recommendation for future screening and referrals if appropriate.

• Screen children from at least three of the target populations identified;

• If a screening reveals that a child has a potential disability or developmental delay, provide an appropriate assessment or refer the child for an appropriate assessment.

Assessments

• If an assessment reveals a disability or developmental delay, provide appropriate early intervention services and support or refer the child for appropriate early intervention services and supports;

Support Services

• Provide transportation assistance via case coordinator. Assist with follow-through for assessments, appointments, and other actions necessary to obtain needed information and/or services and supports.

• Have a collaborative relationship with providers of screening, assessment, and early intervention services or develop such relationships in order to provide those screened with follow-ups.

• Provide information regarding ombudsman or consumer advocacy services at the beginning of a family's participation in the project for assistance with any future problems which may arise in connection with the project.

F. Monitoring Outcomes

The awardee shall design a model system which increases the developmental screening of children (birth to age 5) and includes a quality screening tool(s). The awardee and SSA will identify an agreed upon minimum set of screening instruments that can be supplemented depending on the needs of each child, which will be utilized in the project. The screening instruments must be normed. If they are not normed, SSA and the awardee will develop and agree upon a method for comparing the project results to national screening data. The awardee will also be required to submit all screening instruments and assessment tools through OMB clearance. The awardee must make all data collected in the projects available to SSA.

The information obtained will be used to assist SSA in identifying possible changes in policies or procedures that could enhance service to the public or otherwise improve administration of either disability program. The reports will be disseminated to others involved in providing community-based services and early identification and intervention services to children with developmental delays and/or other disabilities and their families.

The cooperative agreement shall collect information discussed in paragraph G.1., which will help to answer questions including, but not limited to:

• How many children are screened?

• What is the frequency with which each screening instrument is used, and the relevant characteristics of the children being screened with the instrument (e.g., age, gender, target population, and other agreed upon information.)?

• How many children are referred for assessments based upon positive screening results, and the relevant characteristics of these children (e.g., age, gender, target population, and other agreed upon information)?

• How many children assessed are subsequently identified as having a developmental delay or disability?

• What delays or disabilities are identified and what are the relevant characteristics of these children (e.g., age, gender, target population, and other agreed upon information)?

• What early intervention services and supports are the children identified as having a developmental delay or disability referred for?

• How may children referred for early intervention services and supports successfully receive services upon referral?

• How many children screened are currently receiving SSI and/or SSDI benefits;

• The number of parents who are currently receiving SSI and/or SSDI benefits;

• Of the children identified as having a developmental delay or disability, how many subsequently apply for and are determined eligible for SSDI and/or/SSI benefits?

• Of the children identified as having a developmental delay or disability, how many subsequently receive services under IDEA?

Enrollment Guidelines

The awardee is required to enroll and screen at least 50 children (birth to age 5), in each of the target populations selected to be screened. SSA encourages the grantee to serve large numbers of individuals to improve data collection. The goal is to serve children who are in the target populations described in paragraph D. above.

G. Data Collection

1. Data Elements

Grantees will submit a monthly project enrollees list by no later than the 15th of each month. This will be sent over a secure message server to SSA.

The initial list should contain all currently enrolled participants. Thereafter, monthly updates should list only participants newly enrolled or disenrolled during the previous calendar month.

All data elements are to be reported using precise definitions, which will be developed by SSA based upon the needs discussed above, as well as program data needed to monitor the program. Adherence to such definitions is crucial to the comparability of the data to national norms. The awardee must report these elements on the monthly “project enrollees list.” Specific instructions will be available at the time that the project begins enrollment. The data elements below will be provided to the grantees in a template format.

• Enrolled child's name, date of birth, and Social Security number (report only at time of enrollment);

• Percentages/numbers in each target population screened;

• Percentages/numbers identified for services using a screening tool;

• Primary/secondary disabilities identified;

• Percentages/numbers of families that complete an Individual Family Services Plan;

• Percentages/numbers of families that do not complete an Individual Family Services Plan and the reasons identified;

• Percentages/numbers identified that do not follow up at a local SSA field office and the reasons identified;

• SSA disability determination time;

• Percentages/number that follow up with collaborative referral sources;

• Referral number that enter Early Childhood Special Education (ECSE) services/programs, levels of ECSE used; and

• Referral sources utilized; e.g., housing, medical, educational, etc.

Each grant recipient employee or subcontractor employee who will work on this cooperative agreement and will have access to Personally Identifiable Information of clients serviced by this project will have to complete Personnel Suitability Determination forms and be cleared through SSA prior to your organization collecting Personally Identifiable Information while working on this cooperative agreement. Those organizations awarded under this cooperative agreement will receive the necessary Personnel Suitability Determination forms as a part of any issued Notice of Award.

Definition of Personally Identifiable Information (PII). PII is defined as information that can be used, alone or in conjunction with any other information, to identify a specific individual. In short, any information that can be used to search for or identify individuals, or can be used to access their files, is PII. Examples of PII may include: name, Social Security Number, Social Security benefit data, date of birth, official State or Government issued driver's license or identification number, alien registration number, Government passport number, employer or taxpayer identification number, home address and medical information.

Note: Due to the fact that grantees will have access to confidential beneficiary information they are subject to SSA conducted background checks and fingerprinting in accordance with SSA personnel suitability requirements. SSA will distribute the necessary forms and consents for completion upon award.

2. Privacy

All personal information collected by grantees is protected by the Privacy Act of 1974, as amended. All projects must adhere to SSA's Privacy and Confidentiality Regulations (20 CFR Part 401) for maintaining records of individuals, as well as provide specific safeguards surrounding participant information sharing paper/computer records data, and other issues potentially arising from a team approach to Early Identification Services. At a minimum, all paper records must be kept in locked file cabinets or desk drawers and all computer records must be secure password-protected files. All applications must describe proposed practices for addressing clients' privacy and obtaining informed consent for any disclosure. The plan described in the applicant's project description must address the following elements:

• The development and use of a consent form that will allow the grantee to disclose clients' personal information to SSA. SSA will provide a suggested format for the consent form, which may either be adopted by the grantee, or tailored to include any State or agency-level requirements. Applicants selected under this announcement must provide SSA with a copy of the consent form. The Project Officer must approve this consent form prior to the enrollment of any project participants.

• The use of Form SSA-827, Authorization to Disclose Information to the Social Security Administration. This form is required as written authorization from a claimant for SSA to obtain information required for processing an application for disability benefits.

• The use of Form SSA-3288, Social Security Administration's Consent for Release of Information. This form will allow SSA to give information concerning the client to the grantee and to the evaluation contractor.

• If necessary, the awardee will obtain the approval of their Institutional Review Board (IRB), and furnish SSA with a copy of the approval document. Copies of the SSA-827 and SSA-3288 forms can be obtained on-line through the SSA Web site: http://www.socialsecurity.gov/.

3. Security Plan

All projects must write a security plan and reference the following elements. All plans must document how you are ensuring the security of Social Security records, all data files, including confidential information such as name, home address, social security number, or other personally identifiable information. Data is recorded information regardless of form or the media on which it may be recorded. The term includes computer software and information of a scientific or technical nature.

SSA Security Plan Elements

• Access Control—there must be logical access control utilizing a minimum two factor authentication (i.e., PIN and password) protocol. Administration of access control authorization must involve two or more management personnel who are in a position to recognize and understand the duties of individuals seeking access to the SSA information, and who have the authority necessary to assure employment suitability requirements have been met prior to granting authorization. PINs and passwords must conform to SSA requirements as to length, acceptable characters and cyclical changes. Password administration also must have enforceable procedures for suspending/terminating access privileges when appropriate or necessary.

• Audit Trails—there must be a system for capturing audit trail information identifying the data accessed by authorized users, the time and date of their access, and whether they changed, copied or deleted information from the database. Audit trail records should be stored securely, be unalterable, and be accessible only to individuals with a “need to know”.

• Encryption—SSA information stored on a mainframe, network server or workstation computer must be encrypted to prevent unauthorized access. SSA's (and the Federal Government's) standard for minimum encryption strength is DES-3 or greater. If any link of an intranet or extranet utilizes the public Internet, and SSA information will be transmitted from one site to another, it must be encrypted while in transit.

• Security Awareness and Employee Sanctions—security awareness training should occur prior to granting any employee access to SSA information, and repeated periodically as needed. Administrative procedures should be in place for sanctioning employees who violate data security policies or procedures, or who use SSA information inappropriately.

• Management Oversight—(see 1. above) In addition to the process described above for authorizing access to SSA information, projects must designate an official to be responsible for ongoing management oversight of these technical security requirements to ensure that only authorized employees have access to SSA information and to ensure there is compliance with the technical and procedural security requirements of the agreement with SSA.

Section II. Award Information

A. Statutory Authority and Catalog of Federal Domestic Assistance Number

The project derives its authority from section 1110 of the Act. The regulatory requirements that govern the administration of SSA awards are in the Code of Federal Regulations, Title 20, Parts 435 and 437. Applicants are urged to review the requirements in the applicable regulations. This program will be listed in the Catalog of Federal Domestic Assistance under Program No. 96.007, Social Security Administration—Research and Demonstration.

B. Type of Awards

Funding made available under this announcement will be in the form of a cooperative agreement between the government and the awardee. A cooperative agreement is a legal instrument reflecting a relationship between the U.S. Government and a recipient when the principal purpose is to transfer a thing of value to the recipient and substantial involvement is expected between the Agency and the recipient when carrying out the activity contemplated by the agreement. Involvement will include collaboration or participation by SSA in the management of the activity as determined at the time of the award. For example, SSA will be involved in decisions involving data collection and monitoring outcomes, grantee training, deployment of resources, release of public information materials, quality assurance, and coordination of activities with other offices.

SSA has chosen to use cooperative agreements for funding projects to serve children with possible developmental delays and/or disabilities in order to assure accountability for funding and to maintain the ability to successfully monitor and evaluate projects.

C. Number, Size, and Duration of Projects

SSA intends to enter into two cooperative agreements for up to 2 years, subject to the availability of annual appropriations by Congress. SSA will fund project activities in the first year and will conduct data reporting activities in the second year.

SSA may suspend or terminate any cooperative agreement, in whole or in part, at any time before the date of expiration, whenever it determines that the awardee has materially failed to comply with the terms and conditions of the cooperative agreement. SSA will promptly notify the awardee in writing of the determination and the reasons for suspension or termination, together with the effective date.

SSA plans to fund two projects, with an award of up to $300,000.

Section III. Eligibility Information

A. Eligible Applicants

Public and private organizations, including educational, nonprofit, profit-making, and faith-based organizations, may apply for cooperative agreement funding made available under this announcement.

The Organization that is awarded funding must:

• Have existing expertise in developmental screenings and assessments or demonstrate an ability to refer children for screening, full assessment and early intervention services, and assist participants to follow through with recommended assessments and early intervention services; and

• Be able to provide culturally competent services that are fully accessible to the target populations, including individuals who require accommodations. Cooperative agreements may not be awarded to:

• Any individual;

• Social Security Administration FOs;

• State DDS offices; or

• Any organization described in section 501(c)(4) of the Internal Revenue Code of 1968 that engages in lobbying (in accordance with section 18 of the Lobbying Disclosure Act of 1995, 2 U.S.C. 1611).

All applications developed jointly by more than one agency or organization must identify only one organization as the lead organization and official applicant. The other participating agencies and organizations can be included as co-applicants, sub-grantees, or subcontractors. All applicants for Federal grants and cooperative agreements are required to provide a Dun and Bradstreet (D&B) Data Universal Number System (DUNS) number. The DUNS number will be required whether an applicant is submitting a paper application or using the government wide electronic portal (www.grants.gov). Organizations should verify that they have a DUNS number or take the steps needed to obtain one as soon as possible. Organizations can receive a DUNS number at no cost by calling the dedicated toll-free DUNS number request line at 1-866-705-5711.

B. Cost Sharing or Matching

Awardees of SSA cooperative agreements are required to contribute a non-Federal match of at least 5 percent toward the cost of each project. The cost of the project is the sum of the Federal share (up to 95 percent) and the non-Federal share (at least 5 percent). For example, an entity that is awarded a cooperative agreement of $100,000 (95 percent) would need a non-Federal share of at least $5,263 (5 percent). The non-Federal share may be cash or in-kind (property or services) contributions.

C. Targeted Populations

Congress recognizes the need for early intervention services through the New Freedom Initiative. President George W. Bush has also recognized the need to work to ensure that all Americans have the opportunity to learn and develop skills, engage in productive work, choose where to live, and participate in community life.¹¹ Therefore, this cooperative agreement will target: children (birth to age 5) who are minority, unserved, underserved, native populations, homeless, premature infants, parental depression or serious emotional disturbance, foster care, low-income, inner city, rural, children affected by illegal substance abuse or withdrawal symptoms resulting from prenatal drug exposure, and children involved in a substantiated case of child abuse.

¹¹ New Freedom Initiative, President George W. Bush, announced February 1, 2001.

The cooperative agreement awardee must make concerted and assertive efforts to provide appropriate services for screened infants and toddlers and their families with limited English proficiency, those who need accommodations related to a disability, and those who have needs for culturally sensitive services. In particular, applicants should show how they intend to assure that participants from diverse populations are served by the project.

Applicants must specify by district, county, municipality, or State the geographic area to be covered. If more than one site is proposed, the geographic area for each must be specified.

Section IV. Application and Submission Information

A. Address To Request Applications

An electronic application must be submitted through www.grants.gov for Funding Opportunity Number SSA-OPDR-07-1 unless submission of a paper application has been approved in writing by SSA. The www.grants.gov, Getting Started webpage is available to help explain the registration and application submission process. Additional helpful information is available in the Application Procedure section of the SSA Grants Web site at http://www.socialsecurity.gov/oag/grants/ssagrant_info.htm. If you experience problems with the steps related to registering to do business with the Federal government or application submission, your first point of contact is the Grants.gov support staff at support@grants.gov, 1-800-518-4726. If your difficulties are not resolved, you may also contact the SSA Grants Management Team for assistance: Gary Stammer, 410-965-9501 or Audrey Adams, 410-965-9469.

The www.grants.gov Web site is the primary means recommended for obtaining an application kit under this program announcement. Detailed procedures for completing and submitting applications are explained at www.grants.gov.

However, in the rare instances when an organization may not have access to the Internet, an application kit may be obtained by writing to: Grants Management Team, Office of Operations Contracts and Grants, OAG, Social Security Administration, 7111 Security Blvd., Suite 100, Baltimore, Maryland 21244.

B. Content and Form of Application Submission

1. Application Process

The cooperative agreement application process consists of a one-stage, full application. Independent reviewers will competitively review and score the application, using the evaluation criteria specified in this announcement. (See Section V).

2. Application Requirements

Applications will be initially screened for responsiveness to this announcement. If judged irrelevant, the application will be returned. Also, applications that do not meet the applicant eligibility criteria in Section III.A above will not be accepted.

a. Number of Copies: Not applicable for applications submitted through Grants.gov. When approved to submit a paper application (see section VI), the applicant must submit one original signed and dated application and a minimum of two copies. The submission of seven additional copies is optional and will be appreciated, but will not affect the evaluation or scoring of the application.

b. Length: A project abstract of not more than one page must precede the narrative of each application. The program narrative portion of the application may not exceed 30 double-spaced typed pages (or 15 single-spaced pages) on one side of the paper only, using standard (8½ x 11) size paper, and 12-point font. The attachments to support the program narrative count towards the 30-page limit. Resumes, job descriptions, and letters of cooperation/collaboration do not count in the 30-page limit. Section VI.B contains a detailed checklist for the application format.

c. Project Narrative: Each application must include a brief project abstract that does not exceed one page in length before the narrative. The application narrative must not exceed 30 pages. Applicants must identify targeted age group(s) and location of the targeted service area(s) (e.g., district, municipality or county, and/or independent city). The narrative must include an implementation plan that shows how the applicant will:

1. Report data elements;

2. Develop and submit quarterly reports that contain progress and status toward achieving goals and objectives to the Office of Acquisition and Grants (OAG);

3. Develop and submit semi-annual financial reports to SSA, OAG;

4. Meet with SSA Project Staff for an initial teleconference, within the first 90 days following award;

5. Begin to screen children (birth to age 5) for this project within 120 days after award;

6. Provide a description of any planned changes to the project design for approval by SSA prior to implementation;

7. Cooperate with SSA in scheduling and conducting site visits; and

8. Conduct activities designed to improve organizational capacity, gradually reduce reliance on cooperative agreement funds, and sustain the project activities after cooperative agreement funding is no longer available.

C. Submission Dates and Times

A complete application package must be received electronically by the Grants.gov portal no later that 11:59 p.m. Eastern Time on or before March 14, 2007. Applications that do not meet the above criteria are considered late applications. SSA will not waive or extend the deadline for any application unless the deadline is waived or extended for all applications. SSA will notify each late applicant that its application will not be considered.

D. Funding Restrictions

Federal cooperative agreement funds may be used for allowable costs incurred by awardees in conducting required and optional project activities, as described in Section I and paragraph E.1. These costs could include administrative and overall project management costs within the limitations established in this announcement.

Federal cooperative agreement funds are not intended to cover costs that are reimbursable under an existing public or private program, such as social services, rehabilitation services, or education. No SSDI/SSI beneficiary can be charged for any service delivered under an Early Identification and Intervention cooperative agreement. Cooperative agreement funds may not be used to create new benefits or extensions of existing benefits.

E. Other Submission Requirements

All applications for funding under this announcement must be submitted via www.grants.gov, the process that the Federal government has established for electronic submission of applications for grant and cooperative agreement funding. If you experience technical difficulties related to the application submission, first contact Grants.gov support staff at support@grants.gov, 1-800-518-4726. If your difficulties are not resolved you may contact: Gary Stammer, SSA Grants Management Officer, at 410-965-9501 or gary.stammer@ssa.gov. In exceptional cases where submission through www.grants.gov is not possible, the applicant should contact the Grants Management Team (via specified contact information) to request approval and instructions for the submission of a paper application package.

Section V. Application Review Information

A. Criteria

There are three categories of criteria used to score applications: Capability; relevance/adequacy of project research design; and resources and management. The total points possible for an application are 100, and sections are weighted. The score for each application is the sum of its parts. Although the results from the independent panel reviews are the primary factor used in making funding decisions, they are not the sole basis for making awards. The Commissioner will consider other factors as well when making funding decisions.

The following are the evaluation criteria that SSA will use in reviewing all applications (relative weights are shown in parentheses). The application narrative should include the following sections in this order.

1. Capability (30 Points Total)

These criteria will be used to assess the applicant's capability to develop and manage a project. SSA will consider the following:

• Evidence of successful previous experience related to early identification and intervention (5 points).

• Evidence that the applicant will be able to successfully develop a model which increases developmental screening on children (birth to age 5) (10 points).

• Documentation of experience of the Project Director and key staff (5 points).

• Description of the qualifications, including relevant training and experience, of key project personnel, and the qualifications, including relevant training and experience, of project consultants or subcontractors, if built into project design (5 points).

• In determining the quality of project personnel, the extent to which the applicant encourages applications for employment from persons who are members of groups that have traditionally been underrepresented based on race, color, national origin, age, or disability (5 points).

2. Project Design (30 Points Total)

The adequacy of project design will be judged by:

• A description of the project, including: How the project will be managed, the target populations, specific methods to be used, and a description of problems that may arise and specific measures that will be taken to mitigate them (e.g., how dropouts and inadequate numbers of participants will be handled) (10 points).

The extent to which the project design reflects careful consideration of the potential for achieving successful outcomes and for project replication. This includes evidence of:

• An approach to outreach and early identification and intervention that can reasonably be expected to be successful, given the characteristics and needs of the target population; measurable methods for recruiting and serving the target population; service delivery to populations with special cultural or language requirements; consideration of the desired outcomes identified by SSA; and accessibility of facilities and service delivery methods that eliminate or reduce barriers to participation by individuals with disabilities (10 points).

• The extent to which goals, objectives, and outcomes to be achieved by the proposed project are clearly specified and measurable as indicated by a description of: project goals and objectives; outcome measures; time frames for accomplishing project milestones; and the relationship of proposed activities to the stated project goals (10 points).

3. Resources and Management (40 points total)

Resources and management will be judged by:

• A description of how the applicant will ensure that the perspectives of families of children at risk for disabilities or having developmental delays or disabilities influence the operation of the project (e.g., representation on a project or organizational advisory board) (5 points).

• Evidence that the applicant has a working knowledge of Federal, State, and local programs that serve children at risk for disabilities or having developmental delays or disabilities or other underserved individuals (5 points).

• Evidence of facilities, equipment, supplies, and other resources, from the applicant organization that are adequate to achieve project goals (5 points).

• Evidence that the applicant works cooperatively with other community-based service providers, as well as local and State funders/regulators (5 points).

• Evidence that the applicant directly provides or assists clients through referral and advocacy, a wide variety of services that lead to the early identification of developmental delays and/or disabilities and early intervention services for these children and their families, including, but not limited to:

○ Developmental screening; assessments; case coordination; early intervention services; other services and supports for children and families (10 points);

○ The extent to which the budget is adequate to support the proposed project (5 points); and

○ The extent to which the applicant has included plans for sustaining project activities after cooperative agreement funding ends (5 points).

B. Review and Selection Process

All applications that meet the deadline for application submission March 14, 2007 will be screened to determine completeness and conformity to the requirements of this announcement. Complete and conforming applications will then be evaluated. The results of this review and evaluation will assist the Commissioner in making award decisions.

Although the results of this review are a primary factor considered in making award decisions, the review score is not the only factor used. In selecting eligible applicants to be funded, consideration also may be given to achieving an equitable distribution of assistance among geographic regions of the country and to diverse populations.

Applications that are complete and conform to the requirements of this announcement will be reviewed competitively against the evaluation criteria specified in Section V.A. of this announcement.

Applications that pass the screening process will be independently reviewed by at least three individuals who will evaluate and score the applications based on the evaluation criteria specified in Section V.B.

C. Anticipated Announcement and Award Dates

Announcement of awards are anticipated on or before June 1, 2007.

D. Application Approval

A cooperative agreement award will be made pursuant to the availability of funds and at the discretion of SSA. The official award document is the Notice of Cooperative Agreement Award, which will provide the amount and purpose of the award, the duration of the agreement, the total project period for which support is contemplated, applicable reporting requirements, the amount of financial participation required from the applicant, and any special terms and conditions of the cooperative agreement.

Section VI. Award Administration Information

A. Award Notices

A cooperative agreement award will be issued within the constraints of available Federal funds and at the discretion of SSA. The official award document is the “Notice of Cooperative Agreement Award.” It will provide the amount of the award, the purpose of the award, the term of the agreement, the total project period for which support is contemplated, the amount of financial participation required, and any special terms and conditions of the cooperative agreement. The Notice of Cooperative Agreement Award signed by the Grants Officer is the authorizing document. These awards will be issued via e-mail.

B. Administrative and National Policy Requirements

No administrative or national policy requirements have been identified by SSA for this project.

C. Reporting

The awardee will be required to submit progress and financial reports to SSA, Office of Acquisition and Grants. Progress reports are required quarterly and are due within 30 days following the end of each quarter (using the initial award date as the project start date). These reports will assist SSA in providing proper oversight and technical assistance to grantees. Financial Status Reports (SF269A) are required semi-annually. An interim report covering the first six months is due within 30 days following the end of the reporting period and a final report is due within 90 days following the end of each 12-month budget period.

Quarterly Progress Report Format:

• Description of the project (first quarter report only);

• Actions taken during the quarter;

• Planned activities for upcoming quarter(s);

• Number of enrolled children, to date, and at the close of the report period;

• Number of individuals who refused to enroll;

• Number of children screened;

• Number of children assessed or referred for assessment;

• Number of children provided with or referred to early intervention services or supports;

• Any problems or proposed changes in the project; and

• Additional summary information.

D. Monitoring

The SSA Project Officer (PO) will be responsible for ensuring the effective implementation of each cooperative agreement. SSA project personnel (PO and/or other staff) expect to visit the project at least once in each year of the cooperative agreement. In addition, regional or field office personnel may accompany the PO on site visits.

SSA project staff will hold conference calls on a national, regional, and/or local basis at least once monthly during start-up of the project (6 months following award), and at least quarterly during the rest of the project period. The purpose of these calls will be to coordinate activities, resolve problems, and provide oversight, support, and technical assistance to all parties.

E. Technical Assistance

SSA will provide technical assistance to the awardee and will monitor and evaluate the progress of the project. The awardee will be informed of the procedures for accessing technical assistance within 60 days following award. The awardee will be notified by e-mail about any changes in or additions to technical assistance procedures.

Section VII. Agency Contacts

Send questions about this announcement to Stephen Evangelista, Office of Disability and Income Security Programs, 6401 Security Boulevard, Altmeyer 107, Baltimore, MD 21235 phone: 410-965-6522; or Leola Brooks, Office of Program Development and Research, 400 Virginia Avenue, SW., Suite 700, Washington, DC 20024, leola.brooks@ssa.gov, phone: 202-358-6294. When sending a question, use the program announcement number (SSA-OPDR-07-01) and the date of this announcement, January 29, 2007. Questions and answers will be posted to the What's New link on the Social Security Online Program Development and Research Web site (http://www.ssa.gov/disabilityresearch). The identity of questioners will not be revealed when questions and answers are posted on this Web site. All applicants are encouraged to review the Web site while developing their applications.

For general, non-programmatic information, regarding submission of applications, contact: Phyllis Y. Smith, Chief, Grants Management Officer, Social Security Administration, Office of Acquisition and Grants, 7111 Security Blvd., Suite 100, Baltimore, MD 21244, phyllis.y.smith@ssa.gov, phone: 410-965-9518.

VIII. Other Information

Paperwork Reduction Act

This notice contains reporting requirements. However, the information is collected using the application package at www.grants.gov or via form SSA-96-BK, Federal Assistance Application, which has the Office of Management and Budget clearance number 0960-0184.

Catalog of Federal Domestic Assistance: No. 96.007, Social Security Administration, Research and Demonstration.

Dated: January 23, 2007.
Martin Gerry,
Deputy Commissioner for Disability and Income Security Programs.

[FR Doc. E7-1347 Filed 1-26-07; 8:45 am]

BILLING CODE 4191-02-P